DEPARTMENT OF THE INTERIOR

National Park Service

Denali National Park and Preserve, Alaska; Revised Draft Backcountry Management Plan, General Management Plan Amendment and Environmental Impact Statement

AGENCY: National Park Service, Interior.

ACTION: Extension of the public comment period.

SUMMARY: The National Park Service (NPS) announces that the public comment period for the Revised Draft Backcountry Management Plan, General Management Plan Amendment, and Environmental Impact Statement for Denali National Park and Preserve, published in the Federal Register on Tuesday, April 26, 2005 (70 FR 103), has been extended to July 15, 2005. The original comment period was through June 30, 2005.

DATES: Comments on the revised draft plan and EIS will be accepted through July 15, 2005.

ADDRESSES: Written comments on the revised draft plan and EIS should be submitted to the Superintendent, Denali National Park and Preserve, Post Office Box 9, Denali Park, Alaska 99755.

FOR FURTHER INFORMATION CONTACT: Mike Tranel, Chief of Planning, Denali National Park and Preserve, 240 West 5th Avenue, Anchorage, Alaska 99501. Telephone (907) 644-3611, Fax (907) 644-3803.

Electronic Access and Filing Addresses

Submit electronic comments to dena_bc_plan_comment@nps.gov. The revised draft EIS may be viewed online by following the Revised Draft Backcountry Management Plan link on the Denali homepage at http://www.nps.gov/dena. Hard copies or CDs of the Revised Draft Backcountry Management Plan and General Management Plan Amendment and EIS are available by request from the aforementioned address.

Dated: June 22, 2005.
Anne D. Castellina,
Acting Regional Director, Alaska Region.

[FR Doc. 05-12750 Filed 6-27-05; 8:45 am]

BILLING CODE 4310-70-P